DEPARTMENT OF ENERGY

Federal Energy Regulatory Commission

Combined Notice of Filings #2

Take notice that the Commission received the following electric corporate filings:

Docket Numbers: EC14-15-000.

Applicants: CSOLAR IV South, LLC.

Description: Application for Approval Under Section 203 of the Federal Power Act and Request for Expedited Action of CSOLAR IV South, LLC.

Filed Date: 10/28/2013.

Accession Number: 20131028-5111.

Comment Date: 5 p.m. ET 11/18/13.

Docket Numbers: EC14-16-000.

Applicants: Star Energy Partners LLC.

Description: Application under Section 203 of FPA of Star Energy Partners, LLC.

Filed Date: 10/28/2013.

Accession Number: 20131028-5171.

Comment Date: 5 p.m. ET 11/18/13.

Docket Numbers: EC14-17-000.

Applicants: CPV Shore, LLC.

Description: CPV Shore, LLC Submits 203 Application for Authorization of Disposition of Jurisdictional Facilities.

Filed Date: 10/29/13.

Accession Number: 20131029-5097.

Comments Due: 5 p.m. ET 11/19/13.

Take notice that the Commission received the following electric rate filings:

Docket Numbers: ER11-2715-005.

Applicants: Interstate Power and Light Company.

Description: IPL Amended and Restated O&T Agreement with ITCM & CIPCO to be effective 9/27/2013.

Filed Date: 10/22/13.

Accession Number: 20131022-5107.

Comments Due: 5 p.m. ET 11/1/13.

Docket Numbers: ER11-2715-006.

Applicants: Interstate Power and Light Company.

Description: IPL Amended and Restated O&T Agreement with ICM & CIPCO to be effective 9/27/2013.

Filed Date: 10/22/13.

Accession Number: 20131022-5116.

Comments Due: 5 p.m. ET 11/1/13.

Docket Numbers: ER11-2715-007; EL10-68-002; EL09-71-002.

Applicants: Interstate Power and Light Company.

Description: Compliance Filing of executed Revised Settlement Agreement of Resale Power Group of Iowa, Inc., et al.

Filed Date: 10/22/13.

Accession Number: 20131022-5126.

Comments Due: 5 p.m. ET 11/1/13.

Docket Numbers: ER13-2245-001.

Applicants: Southern California Edison Company.

Description: Southern California Edison Company submits SCE Response to Rhodia Deficiency Letter to be effective 10/26/2013.

Filed Date: 10/29/13.

Accession Number: 20131029-5073.

Comments Due: 5 p.m. ET 11/19/13.

Docket Numbers: ER13-2457-001.

Applicants: Arizona Public Service Company.

Description: Arizona Public Service Company submits Errata Service Agreement No. 219, Amendment 1 to be effective 9/11/2013.

Filed Date: 10/29/13.

Accession Number: 20131029-5040.

Comments Due: 5 p.m. ET 11/19/13.

Docket Numbers: ER14-157-000.

Applicants: Midcontinent Independent System Operator, Inc.

Description: 10-22-2013 Rate Schedule 32 Coordination Agreement to be effective 12/31/9998.

Filed Date: 10/22/13.

Accession Number: 20131022-5100.

Comments Due: 5 p.m. ET 11/1/13.

Docket Numbers: ER14-206-001.

Applicants: Midcontinent Independent System Operator, Inc.

Description: Midcontinent Independent System Operator, Inc. submits 10-29-13 Amendment to App A to be effective 12/28/2013.

Filed Date: 10/29/13.

Accession Number: 20131029-5087.

Comments Due: 5 p.m. ET 11/19/13.

Docket Numbers: ER14-216-000.

Applicants: Duke Energy Florida, Inc.

Description: Duke Energy Florida, Inc. submits Rate Schedules Name Change Filing No. 2 to be effective 12/28/2013.

Filed Date: 10/29/13.

Accession Number: 20131029-5022.

Comments Due: 5 p.m. ET 11/19/13.

Docket Numbers: ER14-217-000.

Applicants: Duke Energy Progress, Inc.

Description: Duke Energy Progress, Inc. submits Rate Schedules Name Change Filing No. 2 to be effective 12/28/2013.

Filed Date: 10/29/13.

Accession Number: 20131029-5023.

Comments Due: 5 p.m. ET 11/19/13.

Docket Numbers: ER14-218-000.

Applicants: Bangor Hydro Electric Company.

Description: Bangor Hydro Electric Company submits Filing to Effect Succession to Maine Public Service Company OATT to be effective 1/1/2014.

Filed Date: 10/29/13.

Accession Number: 20131029-5089.

Comments Due: 5 p.m. ET 11/19/13.

Docket Numbers: ER14-219-000.

Applicants: New York State Electric & Gas Corporation.

Description: New York State Electric & Gas Corporation submits NYSEG-DCEC Facilities Agreement to be effective 11/18/2013.

Filed Date: 10/29/13.

Accession Number: 20131029-5101.

Comments Due: 5 p.m. ET 11/19/13.

Docket Numbers: ER14-220-000.

Applicants: Duke Energy Carolinas, LLC.

Description: Duke Energy Carolinas, LLC submits PMPA Backstand RS 340 Filing to be effective 1/1/2014.

Filed Date: 10/29/13.

Accession Number: 20131029-5109.

Comments Due: 5 p.m. ET 11/19/13.

Docket Numbers: ER14-221-000.

Applicants: Covanta Haverhill Associates, LP.

Description: Covanta Haverhill Associates, LP submits Application for Market-Based Rates to be effective 12/30/2013.

Filed Date: 10/29/13.

Accession Number: 20131029-5126.

Comments Due: 5 p.m. ET 11/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2013.
Nathaniel J. Davis, Sr.,
Deputy Secretary.

[FR Doc. 2013-26737 Filed 11-7-13; 8:45 am]

BILLING CODE 6717-01-P